DEPARTMENT OF COMMERCE

National Oceanic and Atmospheric Administration

[I.D. 081502H]

North Pacific Fishery Management Council; Public Meeting

AGENCY: National Marine Fisheries Service (NMFS), National Oceanic and Atmospheric Administration (NOAA), Commerce.

ACTION: Notice of committee meeting.

SUMMARY: The North Pacific Fishery Management Council’s (Council) Gulf of Alaska Working Group will meet in Kodiak, AK.

DATES: The meeting will be held on September 19-21, 2002.

ADDRESSES: The meeting will be held at the Best Western Kodiak Inn, 236 Rezanof Drive, in the Harbor Room, Kodiak, AK 99615.

Council address: North Pacific Fishery Management Council, 605 W. 4th Ave., Suite 306, Anchorage, AK 99501-2252.

FOR FURTHER INFORMATION CONTACT: Council staff: 907-271-2809.

SUPPLEMENTARY INFORMATION: On Thursday, September 19th, the committee will meet starting at 1 p.m. through noon on Saturday, September 21st, to review staff discussion papers on a preliminary data report, rockfish bycatch, converting halibut trawl bycatch into longline or pot directed fishery quota shares, the effects of an extended groundfish fishing season on halibut bycatch, alternative approaches to rationalizing Gulf of Alaska groundfish fisheries, and additional proposals for elements and options for analysis. An update on the public scoping process will be presented. Opportunities for public comment will be scheduled each day.

Alhough non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Gail Bendixen, 907-271-2809, at least 5 working days prior to the meeting date.

Dated: August 16, 2002.
Richard W. Surdi,
Acting Director, Office of Sustainable Fisheries, National Marine Fisheries Service.

[FR Doc. 02-21314 Filed 8-20-02; 8:45 am]

BILLING CODE 3510-22-S